DEPARTMENT OF TRANSPORTATION

Federal Highway Administration

Environmental Impact Statement: Allegheny County, PA

AGENCY: Federal Highway Administration (FHWA), DOT.

ACTION: Cancellation of the Notice of Intent.

SUMMARY: This notice rescinds the previous Notice of Intent (issued April, 2000) to prepare an Environmental Impact Statement for a proposed highway project in Allegheny County.

FOR FURTHER INFORMATION CONTACT: David W. Cough, P.E., Director of Operations, Federal Highway Administration, Pennsylvania Division Office, 228 Walnut Street, Room 508, Harrisburg, PA 17101-1720, Telephone (717) 221-3411; or, Cheryl Moon-Sirianni, Assistant District Executive, Pennsylvania Department of Transportation, District 11-0, 45 Thoms Run Road, Bridgeville, PA 15017, Telephone (412) 429-5001.

SUPPLEMENTARY INFORMATION: Additional public meetings and environmental analysis have indicated that all project alternatives can be down-scoped with little or no significant impact to the environment. An Environmental Assessment will be pursued, based on a revised project scoping.

(Catalog of Federal Domestic Assistance Program Number 20.205, Highway Planning and Construction. The regulations implementing Executive Order 12372 regarding intergovernmental consultation on Federal programs and activities apply to this program)
James A. Cheatham,
FHWA Division Administrator, Harrisburg, PA.

[FR Doc. 06-6474 Filed 7-25-06; 8:45 am]

BILLING CODE 4910-22-M